CORPORATION FOR NATIONAL AND COMMUNITY SERVICE

Agency Information Collection Activities; Submission to the Office of Management and Budget for Review and Approval; Recordkeeping for National Service Criminal History Checks

AGENCY: Corporation for National and Community Service.

ACTION: Notice of information collection; request for comment.

SUMMARY: The Corporation for National and Community Service, operating as AmeriCorps, has submitted an information collection for review and approval in accordance with the Paperwork Reduction Act.

DATES: Written comments must be submitted through the website listed in the ADDRESSES section by September 5, 2025.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Copies of this ICR, with applicable supporting documentation, may be obtained by calling AmeriCorps, Elizabeth Appel, 202-606-3614, or by email at EAppel@americorps.gov.

SUPPLEMENTARY INFORMATION: The OMB is particularly interested in comments which:

• Evaluate whether the proposed collection of information is necessary for the proper performance of the functions of CNCS, including whether the information will have practical utility;

• Evaluate the accuracy of the agency's estimate of the burden of the proposed collection of information, including the validity of the methodology and assumptions;

• Propose ways to enhance the quality, utility, and clarity of the information to be collected; and

• Propose ways to minimize the burden of the collection of information on those who are to respond, including through the use of appropriate automated, electronic, mechanical, or other technological collection techniques or other forms of information technology.

Comments

Title of Collection: Recordkeeping for National Service Criminal History Checks.

OMB Control Number: 3045-0150.

Type of Review: Renewal.

Respondents/Affected Public: Businesses and Organizations and State, Local, or Tribal Governments.

Total Estimated Number of Annual Responses: 337,071.

Total Estimated Number of Annual Burden Hours: 758,410.

Abstract: The National and Community Service Act of 1990, as amended by the Serve America Act of 2009, requires AmeriCorps grantees and subgrantees to conduct a National Service Criminal History Check on individuals in covered positions before they begin service and to maintain documentation that the individuals were screened according to statutory requirements and are not prohibited from serving in the covered position. AmeriCorps and its grantees must ensure that national service beneficiaries are protected from harm, and the recordkeeping requirements of the final rule are critical to that responsibility. AmeriCorps also seeks to continue using the currently approved information collection until the revised information collection is approved by OMB. The currently approved information collection is due to expire on August 31, 2025.

Jana Maser,
Acting General Counsel.

[FR Doc. 2025-14894 Filed 8-5-25; 8:45 am]

BILLING CODE 6050-28-P